INTERNATIONAL TRADE COMMISSION

[Investigation No. 731-TA-703 (Fifth Review)]

Furfuryl Alcohol From China

Determination

On the basis of the record ¹ developed in the subject five-year review, the United States International Trade Commission (“Commission”) determines, pursuant to the Tariff Act of 1930 (“the Act”), that revocation of the antidumping duty order on furfuryl alcohol from China would be likely to lead to continuation or recurrence of material injury to an industry in the United States within a reasonably foreseeable time.

¹ The record is defined in § 207.2(f) of the Commission's Rules of Practice and Procedure (19 CFR 207.2(f)).

Background

The Commission instituted this review on July 1, 2022 (87 FR 39559) and determined on October 4, 2022 that it would conduct an expedited review (88 FR 2132, January 12, 2023).

The Commission made this determination pursuant to section 751(c) of the Act (19 U.S.C. 1675(c)). It completed and filed its determination in this review on February 15, 2023. The views of the Commission are contained in USITC Publication 5407 (February 2023), entitled Furfuryl Alcohol from China: Investigation No. 731-TA-703 (Fifth Review).

By order of the Commission.
Issued: February 15, 2023.
Lisa Barton,
Secretary to the Commission.

[FR Doc. 2023-03598 Filed 2-21-23; 8:45 am]

BILLING CODE 7020-02-P